DEPARTMENT OF VETERANS AFFAIRS

Special Medical Advisory Group; Notice of Charter Renewal

This gives notice under the Federal Advisory Committee Act, as amended (Public Law 92-463; 5 U.S.C. App.), that the Department of Veterans Affairs' Special Medical Advisory Group has been renewed for a 2-year period beginning March 9, 2000, through March 9, 2002.

Dated: March 9, 2000.
By direction of the Secretary.
Marvin R. Eason,
Committee Management Officer.

[FR Doc. 00-7356 Filed 3-24-00; 8:45 am]

BILLING CODE 8320-01-M